FEDERAL LABOR RELATIONS AUTHORITY

Membership of the Federal Labor Relations Authority's Senior Executive Service Performance Review Board

AGENCY: Federal Labor Relations Authority.

ACTION: Notice.

SUMMARY: Notice is hereby given of the members of the Performance Review Board.

DATES: September 16, 2002.

FOR FURTHER INFORMATION CONTACT: Douglas Goodell, Director, Human Resources Division, Federal Labor Relations Authority (FLRA), 607 Fourteenth Street, NW., Washington, DC 20424-0001; (202) 482-6690, extension 423.

SUPPLEMENTARY INFORMATION: Section 4314(c) (1) through (5) of title 5, U.S.C., requires that each agency establish, in accordance with the regulations prescribed by the Office of Personnel Management, one or more Performance Review Boards. The Boards shall review and evaluate the initial appraisal of a senior executive.

The following persons will serve on the FLRA's FY 2002 Performance Review Board:

Solly Thomas, Office of the Executive Director, FLRA.

James Petrucci, Office of the General Counsel, FLRA.

Gloria Joseph, National Labor Relations Board.

Robert Rogowski, U.S. International Trade Commission.

Dated: September 10, 2002.
Douglas Goodell,
Director, Human Resources Division.

[FR Doc. 02-23461 Filed 9-13-02; 8:45 am]

BILLING CODE 6727-01-P